DEPARTMENT OF ENERGY

Federal Energy Regulatory Commission

[Docket No. CP15-490-004]

Delfin LNG LLC; Notice of Request for Extension of Time

Take notice that on July 21, 2023, Delfin LNG LLC (Delfin) requested that the Federal Energy Regulatory Commission (Commission) grant an extension of time (2023 Extension of Time Request), until September 28, 2027, to construct and place into service the facilities that were authorized in the original certificate authorization issued on September 28, 2017 (Certificate Order).¹ The Certificate Order authorized certain “onshore facilities” that would be used exclusively to transport natural gas to Delfin's deepwater port “offshore facilities” (collectively, the Project) in federal waters offshore Louisiana. The onshore facilities would be used to meet the requirements of the customers of the offshore facilities. The Commission subsequently has granted four, successive one-year extensions of this in-service timing condition, with the result that the facilities currently are required to be made available for service by September 28, 2023.²

¹ Delfin LNG LLC, 160 FERC ¶ 61,130 (2017).

² Delfin LNG LLC, Docket No. CP15-490-000 (July 8, 2019) (delegated order) (July 2019 Extension Order)., Delfin LNG LLC, Docket No. CP15-490-000 (July 15, 2020) (delegated order) (July 2020 Extension Order)., Delfin LNG LLC, Docket No. CP15-490-000 (June 30, 2021) (delegated order) (July 21 Extension Order) (July 22 Extension Order).

In its 2023 Extension of Time Request, Delfin states that it has made significant progress in developing the Project. Delfin states that the Project remains commercially viable with a binding LNG sale and purchase agreement with Vitol Spa for 0.5 million metric tonnes per annum (mtpa) of LNG delivered free on-board at the Delfin LNG deepwater port, for 15 years. Second, Delphin in April 2023, entered into a binding SPA with an affiliate of Hartree Partners, another leading trading firm, for a 20 year term to supply 0.6 MTPA of LNG. Third, on July 11, 2023, Delfin and Centrica the parent company of British Gas, Scottish Gas, and Bord Gais entered a binding agreement for a SPA of1.0 mtpa of LNG for a 15 year term. Fourth, Delfin expects to execute a binding agreement in late 2023 for 1.0 mtpa to Devon Energy Corporation. Lastly, Delfin states that the four LNG agreements will provide revenue of about 18 billion over the contracted terms.

Delfin explains that since it's July 2022 extension order, it has modular project consisting of 4 separates Floating LNG vessels (FLNGV) and only requires 2.0 to 2.5 mtpa of LNG for the long-term off-take contracts to support a final investment (FID) and begin construction of the first FLNGV. Moreover, Delfin affirms that FID for the first FLNGV is on schedule for the end of the year. Additionally, Delfin states it is in agreement with major infrastructure investors to provide the needed equity for its first two FLNGVs and has begun discussions with a consortium of banks to provide the project debt financing. Accordingly, Delfin requests an extension of time until September 28, 2027, to complete construction of the onshore facilities and place them into service.

This notice establishes a 15-calendar day intervention and comment period deadline. Any person wishing to comment on Delfin's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on all of those extension requests that are uncontested.

³ Contested proceedings are those where an intervenor disputes any material issue of the filing. 18 CFR 385.2201(c)(1) (2019).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

Comment Date: 5:00 p.m. Eastern Time on, August 9, 2023.

Dated: July 25, 2023.
Kimberly D. Bose,
Secretary.

[FR Doc. 2023-16237 Filed 7-31-23; 8:45 am]

BILLING CODE 6717-01-P